DEPARTMENT OF ENERGY

Federal Energy Regulatory Commission

[Project No. 13746-000; Project No. 13750-000; Project No. 13776-000; Project No. 13782-000]

Notice of Competing Preliminary Permit Applications Accepted for Filing and Soliciting Comments, and Motions To Intervene

Lock + Hydro Friends Fund XL | Project No. 13746-000.
FFP Missouri 4, LLC | Project No. 13750-000.
Allegheny 4 Hydro, LLC | Project No. 13776-000.
Three Rivers Hydro, LLC | Project No. 13782-000.

November 19, 2010.

On May 18, 2010, Lock+ Hydro Friends Fund XL, FFP Missouri 4, LLC, Allegheny 4 Hydro, LLC, and Three Rivers Hydro LLC filed applications, pursuant to section 4(f) of the Federal Power Act, proposing to study the feasibility of hydropower at the U.S. Army Corps of Engineers (Corps) Allegheny River Lock and Dam No. 4 located on the Allegheny River in Allegheny County, Pennsylvania. The sole purpose of a preliminary permit, if issued, is to grant the permit holder priority to file a license application during the permit term. A preliminary permit does not authorize the permit holder to perform any land-disturbing activities or otherwise enter upon lands or waters owned by others without the owners' express permission.

Descriptions of the proposed Allegheny River Lock and Dam No. 4 Projects:

Lock+ Hydro Friends Fund XL project (Project No. 13746-000) would consist of: (1) Two 34-foot-high, 75-foot-long prefabricated concrete walls attached to the downstream side of the Corps dam which would support one frame modules; (2) each frame module would be 109 feet long and weigh 1.16 million pounds and contain 10 generating units with a total combined capacity of 10.0 megawatts (MW); (3) a new switchyard containing a transformer; and (4) a proposed 400-foot-long, 69-kilovolt (kV) transmission line connecting to an existing substation. The proposed project would have an average annual generation of 43.83 gigawatt-hours (GWh), which would be sold to a local utility.

Applicant Contact: Mr. Mark R. Stover, Hydro Green Energy LLC, 5090 Richmond Avenue #390, Houston, TX 77056; phone (877) 556-6566 x711.

FFP Missouri 4, LLC's project (Project No. 13750-000) would consist of: (1) An excavated intake channel slightly longer and wider than the powerhouse; (2) a 125-foot-long, 160-foot-wide, 60-foot-high proposed powerhouse containing three generating units having a total installed capacity of 15.0 MW; (3) an excavated tailrace channel slightly longer and wider than the powerhouse; and (4) a proposed 500-foot-long, ranging from 34.0 to 230-kilovolt (kV) transmission line. The proposed project would have an average annual generation of 89.0 GWh, which would be sold to a local utility.

Applicant Contact: Ms. Ramya Swaminathan, Free Flow Power Corporation, 33 Commercial Street, Gloucester, MA 01930; phone (978) 283-2822.

Allegheny 4 Hydro, LLC's project (Project No. 13776-000) would consist of: (1) A proposed 165-foot-long excavated power canal; (2) a proposed powerhouse containing three generating units having a total installed capacity of 15.9 MW; (3) a 135-foot-long excavated tailrace; and (4) a proposed 0.3-mile-long, 69.0-kV transmission line. The proposed project would have an average annual generation of 62.6 GWh, which would be sold to a local utility.

Applicant Contact: Mr. Brent Smith, Symbiotics, LLC., P.O. Box 535, Rigby, ID 83442; phone (208) 745-0834.

Three Rivers Hydro, LLC's project (Project No. 13782-000) would consist of: (1) A proposed 85-foot-long excavated power canal; (2) a 125-foot-long, 160-foot-wide, 60-foot-high proposed powerhouse containing three generating units having a total installed capacity of 15.0 MW; (3) a 95-foot-long excavated tailrace; and (4) a proposed 500-foot-long, 138-kV transmission line. The proposed project would have an average annual generation of 89.0 GWh, which would be sold to a local utility.

Applicant Contact: Mr. Joseph Watt, Esq., Three Rivers Hydro, LLC, 316 South Clinton Street, Suite 4, Syracuse, NY 13202; phone (315) 477-9914.

FERC Contact: Tim Looney (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13746-000, 13750-000, 13776-000, or 13782) in the docket number field to access the document. For assistance, contact FERC Online Support.

Kimberly D. Bose,
Secretary.

[FR Doc. 2010-29855 Filed 11-26-10; 8:45 am]

BILLING CODE 6717-01-P